DEPARTMENT OF COMMERCE

International Trade Administration

[C-570-993, C-560-827]

Monosodium Glutamate From the People's Republic of China and the Republic of Indonesia: Postponement of Preliminary Determination in the Countervailing Duty Investigations

AGENCY: Enforcement and Compliance, formerly Import Administration, International Trade Administration, Department of Commerce.

FOR FURTHER INFORMATION CONTACT: Jun Jack Zhao at (202) 482-1396 (the People's Republic of China (PRC)); Nicholas Czajkowski at (202) 482-1395 (the Republic of Indonesia (Indonesia)), AD/CVD Operations, Enforcement and Compliance, International Trade Administration, U.S. Department of Commerce, 14th Street and Constitution Avenue NW., Washington, DC 20230.

SUPPLEMENTARY INFORMATION:

Background

On October 23, 2013, the Department of Commerce (the Department) initiated the countervailing duty investigations of monosodium glutamate from Indonesia and the PRC.¹ Currently, the preliminary determinations are due no later than December 27, 2013.

¹ See Monosodium Glutamate from the People's Republic of China and the Republic of Indonesia: Initiation of Countervailing Duty Investigations, 78 FR 65269 (October 31, 2013).

Postponement of Due Date for the Preliminary Determination

Section 703(b)(1) of the Tariff Act of 1930, as amended (the Act), requires the Department to issue the preliminary determination in a countervailing duty investigation within 65 days after the date on which the Department initiated the investigation. However, if the Department concludes that the parties concerned in the investigation are cooperating and determines that the investigation is extraordinarily complicated, section 703(c)(1)(B) of the Act allows the Department to postpone making the preliminary determination until no later than 130 days after the date on which the administering authority initiated the investigation.

The Department has determined that the parties involved in these proceedings are cooperating, and that the investigations are extraordinarily complicated.² Specifically, the Department is investigating numerous alleged subsidy programs in both Indonesia and the PRC; these programs include loans, grants, tax incentives, and the provision of goods and services for less than adequate remuneration. Due to the number and complexity of the alleged countervailable subsidy practices being investigated, we determine that these investigations are extraordinarily complicated. Therefore, in accordance with section 703(c)(1)(B) of the Act, we are postponing the due date for the preliminary determinations to not later than 130 days after the day on which the investigations were initiated. Thus, the deadline for completion of the preliminary determinations is now March 2, 2014. Because the deadline falls on a non-business day, in accordance with the Department's practice, the deadline will become the next business day, March 3, 2014.³

² See section 703(c)(1)(B) of the Act.

³ See Notice of Clarification: Application of “Next Business Day” Rule for Administrative Determination Deadlines Pursuant to the Tariff Act of 1930, as Amended, 70 FR 24533 (May 10, 2005).

This notice is issued and published pursuant to section 703(c)(2) of the Act and 19 CFR 351.205(f)(1).

Dated: December 3, 2012.
Paul Piquado,
Assistant Secretary for Enforcement and Compliance.

[FR Doc. 2013-29458 Filed 12-9-13; 8:45 am]

BILLING CODE 3510-DS-P